DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed collections of information in accordance with the Paperwork Reduction Act of 1995 (PRA95) (44 U.S.C. 3506(c)(2)(A)). This program helps to ensure that requested data can be provided in the desired format, reporting burden (time and financial resources) is minimized, collection instruments are clearly understood, and the impact of the collection requirements on respondents can be properly assessed. Currently, the Employment and Training Administration is soliciting comments concerning a series of proposed new collections of data from state workforce agencies and local workforce investment areas on issues relating to the implementation and operation of programs authorized by the Workforce Investment Act.

A copy of the proposed information collection request (ICR) can be obtained by contacting the office listed below in the addresses section of this notice.

DATES: Written comments must be submitted to the office listed in the addresses section below on or before August 26, 2002.

ADDRESSES: Kerri Vitalo, Employment and Training Administration, U.S. Department of Labor, 200 Constitution Ave., NW., Room N-5637, Washington, DC 20210; 202-693-3912 (this is not a toll-free number); kvitalo@doleta.gov; Fax: 202-693-2766 (this is not a toll-free number).

SUPPLEMENTARY INFORMATION:

I. Background

The Department of Labor's Employment and Training Administration (ETA) seeks to collect data from state workforce agencies and local workforce investment areas on issues relating to the governance, administration, funding, service design, and delivery structure of workforce programs authorized by the Workforce Investment Act (WIA). Enacted in 1998, WIA represents a substantial redesign of the workforce development system. With the goal of improving the responsiveness of government services and enhancing customer choice, this legislation calls for the establishment of new planning bodies, mandates that over a dozen separately funded federal programs work together to streamline workforce services, requires new service designs and delivery systems, and establishes new accountability requirements.

In light of its needs for information on WIA operations on a quick-turnaround basis, ETA is seeking clearance for a series of eight (8) to twenty (20) separate surveys to be administered over the next three years. Each survey will be relatively short (10-30 questions) and, depending on the nature of the survey, may be administered to state workforce agencies, local Workforce Boards, One-Stop Centers, Employment Service offices, or other local-area WIA partners. Each survey will be designed on an ad hoc basis over the three-year period, and will focus on emerging topics of pressing policy interest. Each survey will either cover the universe of respondents or a properly drawn random sample.

Question lists would be developed through short, structured brainstorming sessions involving key policy and program staff from each relevant national and regional office and division in ETA.

Examples of broad topic areas include:

• Local policies and practices promoting a “work-first” approach to workforce development

• The status of local Management Information System developments

• The scope and content of intensive services and training services

• Procedures used to orient customers to service choices and access points

• The status of policies and practices relating to Eligible Training Providers

• Program registration practices

• Local and state policies on Individual Training Accounts, including dollar caps and time limits on the training that will be funded

• The background and experience of, and training provided for, staff delivering intensive services

• The extent of integration of Employment Services operations and other partners (Vocational Rehabilitation, Temporary Assistance to Needy Families, etc.) into One-Stop Centers

• Local Workforce Investment Board membership and training

Quick turnaround surveys are needed for a number of reasons. The most pressing concerns the need to understand key operational issues in light of the coming reauthorization of not only WIA, but also of the Temporary Assistance to Needy Families (TANF) Block Grant and multiple programs which are mandatory partners of the WIA system (such as vocational education, adult education, higher education, and vocational rehabilitation). Beyond WIA/TANF reauthorization, ETA also needs to keep abreast of the challenges and impediments that states and local areas are encountering in order to discharge its obligation to issue policy guidance, provide technical assistance, and accurate information, and promote continuous improvement. These obligations can only be met if ETA has timely information that also identifies the scope and magnitude of various practices or problems. This need is particularly acute given that the workforce development system has been evolving rapidly in the several years since WIA was enacted and new issues and concerns are constantly surfacing.

The information being requested by the quick turnaround surveys is not otherwise available. Other research and evaluation efforts, including case studies or long-range studies, either cover only a limited number of sites or take many years for data to be gathered and analyzed. Administrative information and data are too limited: The five-year Workforce Investment Plans, developed by states and local areas, are too general in nature to meet ETA's specific informational needs and may be updated as infrequently as only once every five years; existing quarterly or annual reporting requirements of states and local areas provide some information, but primarily about cost outlays and the number and characteristics of clients served and their outcomes; and participant outcome data does not provide information on key operational practices and issues. Thus, ETA has no alternative mechanism for collecting information that both identifies the scope and magnitude of emerging WIA implementation issues and provides the information on a quick-turnaround “real-time” basis.

ETA will make every effort to coordinate the quick-turnaround surveys with other ongoing research it is conducting, in order to ease the burden on local and state respondents, to avoid duplication, and to explore fully how interim data and information from each study can be used to inform the other studies. Information from the quick response surveys will provide “just-in-time” information that complements but does not duplicate other ETA reporting requirements or evaluations studies.

II. Review Focus

The Department of Labor is particularly interested in comments that: (a) Evaluate whether the proposed collection strategy of administering quick turnaround surveys is supportive of key performance functions of the agency, including whether the information has practical utility to support continuous improvement of the workforce investment programs, WIA policy decisions and guidance, and workforce investment strategies; (b) evaluate the approach and accuracy of the agency's estimate of the burden of the proposed collection of information, including the validity of the methodology and assumptions used to determine the upper and lower bounds for survey burden hours and the approach used to estimate annualized burden hours and costs; (c) provide comments and input on possible topic areas to be considered for quick turnaround surveys; and (d) minimize the burden of the collection of information on those who are to respond, including through the use of appropriate automated, electronic, mechanical, or other technological collection techniques or other forms of information technology, e.g., permitting electronic submissions of responses.

III. Current Actions

DOL is seeking Office of Management and Budget approval for immediate clearance of a series of surveys that would authorize the surveys to proceed as described above. The surveys themselves would be developed on an ad-hoc basis over the three-year period, as pressing policy issues emerge. The resulting data will be used by ETA in carrying out its functions of issuing policy guidance, identifying needs for technical assistance among states and local areas, providing input to Congress on legislative revisions, and promoting continuous program improvement.

Type of Review: New.

Agency: Employment and Training Administration.

Agency Number: 1205-0NEW.

Title: Quick-Turnaround Surveys on WIA Implementation.

Affected Public: State and local workforce agencies.

Total Respondents: Varies by survey, from 54 to 250 respondents per survey, for up to 20 surveys.

Frequency: Up to 20 separate surveys over three years. Each survey will be administered only once.

Average Time per Response: Varies by survey, but estimated at 10 minutes for the shortest surveys (surveys with only 10 questions, asking about straightforward factual information or opinions) and up to 90 minutes for the longest surveys (surveys with a maximum of 30 questions).

Estimated Total Burden Hours: 3,768 hours.

Total Burden Cost for capital and startup: $0.

Total Burden Cost for operation and maintenance: $0.

Comments submitted in response to this comment request will be summarized and/or included in the request for Office of Management and Budget approval of the information collection request; they will also become a matter of public record.

Dated: June 19, 2002.
Gerard F. Fiala,
Office Administrator, Office of Policy and Research.

[FR Doc. 02-16017 Filed 6-24-02; 8:45 am]

BILLING CODE 4510-30-M